FARM CREDIT ADMINISTRATION

12 CFR Part 624

RIN 3025-AD43

Margin and Capital Requirements for Covered Swap Entities; Correction

AGENCY: Farm Credit Administration.

ACTION: Final rule; correction.

SUMMARY: On July 1, 2020, the Farm Credit Administration (FCA), along with the Comptroller of the Currency, the Board of Governors of the Federal Reserve System, the Federal Deposit Insurance Corporation, and the Federal Housing Finance Agency published an interim final rule amending regulations that require swap dealers, security-based swap dealers, major swap participants, and major security-based swap participants under the Agencies' respective jurisdictions to exchange margin with their counterparties for swaps that are not centrally cleared (non-cleared swaps) (Swap Margin Rule). In that publication, the Regulatory Identification Number (RIN) for the FCA was incorrect. This document corrects that error.

DATES: Effective September 1, 2020.

FOR FURTHER INFORMATION CONTACT: Richard A. Katz, Senior Counsel, Office of General Counsel, (703) 883-4020, TTY (703) 883-4056, Farm Credit Administration, 1501 Farm Credit Drive, McLean, VA 22102-5090.

SUPPLEMENTARY INFORMATION: In FR Doc. 2020-14094, the Margin and Capital Requirements for Covered Swap Entities—Interim Final Rule, appearing on page 39464 in the Federal Register of Wednesday, July 1, 2020, the FCA's RIN number in column 2 is corrected to read “3025-AD43”.

Dated: August 27, 2020.
Dale Aultman,
Secretary, Farm Credit Administration Board.

[FR Doc. 2020-19236 Filed 8-31-20; 8:45 am]

BILLING CODE 6705-01-P